ENVIRONMENTAL PROTECTION AGENCY

[EPA-HQ-OPPT-2021-0414 and EPA-HQ-OPPT-2021-0415; FRL-9146-01-OCSPP]

Science Advisory Committee on Chemicals (SACC); Request For Nominations of Ad Hoc Expert Reviewers To Consider for Participation in Two Early 2022 Reviews

AGENCY: Environmental Protection Agency (EPA).

ACTION: Notice.

SUMMARY: The Environmental Protection Agency (EPA) requests public nominations of scientific experts to consider for service as ad hoc reviewers assisting the SACC with two peer review topics anticipated for early 2022: The draft EPA TSCA Systematic Review Protocol; and the draft EPA TSCA Screening Level Approach for Assessing Ambient Air and Water Exposures to Fenceline Communities. Any interested person or organization may nominate qualified individuals to be considered prospective candidates for these reviews by following the instructions provided in this document. Individuals may also self-nominate.

DATES: Nominations should be provided on or before November 17, 2021. For additional instructions, see Unit I.B. of the SUPPLEMENTARY INFORMATION.

ADDRESSES: Nominations. Submit your nominations to the Designated Federal Officials (DFOs) listed under FOR FURTHER INFORMATION CONTACT.

FOR FURTHER INFORMATION CONTACT: Contact the listed Designated Federal Official (DFO) for the topic of interest or call our main office at (202) 564-8450:

Systematic Review: Dr. Todd Peterson, DFO, email address: peterson.todd@epa.gov.

Exposures to Fenceline Communities: Dr. Alaa Kamel, DFO, email address: kamel.alaa@epa.gov.

SUPPLEMENTARY INFORMATION:

I. General Information

A. Does this action apply to me?

This action is directed to the public in general. This action may, however, be of interest to those involved in the manufacture, processing, distribution, and disposal of chemical substances and mixtures, and/or those interested in the assessment of risks involving chemical substances and mixtures. Since other entities may also be interested, the Agency has not attempted to describe all the specific entities that may be affected by this action.

B. What should I consider as I prepare my nominations for EPA?

1. Submitting CBI. Do not submit CBI information to EPA through regulations.gov or email. If your nomination contains any information that you consider to be CBI or otherwise protected, please contact the DFO listed under FOR FURTHER INFORMATION CONTACT to obtain special instructions before submitting your nomination.

2. Request for nominations to serve as ad hoc expert reviewers to assist the SACC. As part of a broader process for developing a pool of candidates for SACC peer reviews, EPA solicits the public and stakeholder communities for nominations of prospective candidates for service as ad hoc reviewers. Any interested person or organization may nominate qualified individuals to be considered as prospective candidates. Individuals also may self-nominate.

1. Peer Review Topics Anticipated for Early 2022

Individuals nominated for the two SACC reviews anticipated for early 2022 should have expertise in one or more of the following areas:

• Systematic review: Individuals nominated for peer review of the draft systematic review protocol should have expertise in one or more of the following areas: Systematic review approaches of human health and ecological hazard, exposure topics and fate. All experts, including those representing other fields of interest, who have experience with engineering, machine learning, artificial intelligence techniques and natural language processing approaches as applied to systematic review are also needed. Understanding of the TSCA risk evaluation process is highly desirable for the context of this peer review. Familiarity with systematic review tools like DistillerSR (Systematic Review Software), SWIFT (Sciome Workbench for Interactive computer-Facilitated Text-mining; SWIFT-Active Screener and SWIFT-Review), Health and Environmental Research Online (HERO) database and the Health Assessment Workspace Collaborative (HAWC) is highly desirable.

• Exposures to fenceline communities: Individuals nominated for peer review of the draft EPA TSCA Screening Level Approach for Assessing Ambient Air and Water Exposures to Fenceline Communities should have expertise in one or more of the following areas: Chemical fate and transport via ambient air and water pathways; atmospheric modeling of fate, transport, and human exposures; human health, exposure and risk assessment for airborne and/or waterborne chemicals; expertise estimating environmental air releases of chemicals from a variety of sources and databases such as Chemical Data Reporting; experience developing air dispersion methodologies and/or models to estimate ambient air concentrations and impacts to human populations; expertise estimating environmental water releases of chemicals from a variety of sources and databases such as Chemical Data Reporting, Toxics Release Inventory, Discharge Monitoring Report; experience developing methodologies and/or models to estimate chemical concentrations in ambient/source/drinking water and impacts to human populations; and public health protection for at-risk communities.

2. Nominations

Nominees should be scientists who have sufficient professional qualifications, including training and experience, to be capable of providing expert comments on the scientific issues for these reviews. The following information should be included for nominations: Contact information for the person making the nomination; name, affiliation, and contact information for the nominee; and the disciplinary and specific areas of expertise of the nominee. Nominations should be provided to the DFOs listed under FOR FURTHER INFORMATION CONTACT on or before the date listed in the DATES section of this notice.

SACC members and ad hoc reviewers are subject to the provisions of the Standards of Ethical Conduct for Employees of the Executive Branch at 5 CFR part 2635, conflict of interest statutes in Title 18 of the United States Code and related regulations. In anticipation of this requirement, prospective candidates for service on the SACC will be asked to submit confidential financial information which shall fully disclose, among other financial interests, the candidate's employment, stocks and bonds, and where applicable, sources of research support. EPA will evaluate the candidates' financial disclosure forms to assess whether there are financial conflicts of interest, appearance of a loss of impartiality, or any prior involvement with the development of the documents under consideration (including previous scientific peer review) before the candidate is considered further for service on the SACC. Those who are selected from the pool of prospective candidates will be asked to attend the public meetings and to participate in the discussion of key issues and assumptions at these meetings. In addition, they will be asked to review and to help finalize the meeting minutes.

3. Selection of Ad Hoc Reviewers

The selection of scientists to serve as ad hoc reviewers for the SACC is based on the function of the Committee and the expertise needed to address the Agency's charge to the Committee. No interested scientists shall be ineligible to serve by reason of their membership on any other advisory committee to a Federal department or agency or their employment by a Federal department or agency, except EPA. Other factors considered during the selection process include availability of the prospective candidate to fully participate in the Committee's reviews, absence of any conflicts of interest or appearance of loss of impartiality, independence with respect to the matters under review, and lack of bias. Although financial conflicts of interest, the appearance of loss of impartiality, lack of independence, and bias may result in non-selection, the absence of such concerns does not assure that a candidate will be selected to serve on the SACC. Numerous qualified candidates are identified for each review. Therefore, selection decisions involve carefully weighing a number of factors including the candidates' areas of expertise and professional qualifications and achieving an overall balance of different scientific perspectives across reviewers.

At this time, EPA is seeking nominations to create a pool of ad hoc experts who can be available to the SACC to assist in reviews conducted by the Committee. EPA anticipates selecting experts from this pool, as needed, to assist the SACC in their review of both designated topics. The Agency will consider all nominations of prospective candidates for service as ad hoc reviewers for the SACC that are received on or before that date. However, final selection of ad hoc reviewers is a discretionary function of the Agency.

EPA plans to make a list of candidates under consideration as prospective ad hoc reviewers for these reviews available for public comment. The lists will be posted on the SACC website at http://www.epa.gov/tsca-peer-review or may be obtained from the OPPT Dockets at http://www.regulations.gov.

II. Background

A. Purpose of the SACC

The SACC was established by EPA in 2016 under the authority of the Frank R. Lautenberg Chemical Safety for the 21st Century Act, Public Law 114-182, 140 Stat. 448 (2016), and operates in accordance with the Federal Advisory Committee Act (FACA) of 1972. The SACC supports activities under the Toxic Substances Control Act (TSCA), 15 U.S.C. 2601 et seq., the Pollution Prevention Act (PPA), 42 U.S.C. 13101 et seq., and other applicable statutes. The SACC provides independent scientific advice and recommendations to the EPA on the scientific and technical aspects of risk assessments, methodologies, and pollution prevention measures and approaches for chemicals regulated under TSCA.

The SACC is comprised of experts in toxicology; environmental risk assessment; exposure assessment; and related sciences (e.g., synthetic biology, pharmacology, biotechnology, nanotechnology, biochemistry, biostatistics, physiologically based pharmacokinetic modelling (PBPK), computational toxicology, epidemiology, environmental fate, and environmental engineering and sustainability). The SACC currently consists of 17 members. When needed, the committee will be assisted by ad hoc reviewers with specific expertise in the topics under consideration.

B. Background for Each Area of Review

1. Systematic Review

The draft TSCA Systematic Review Protocol includes a revised generic approach for TSCA-related approaches taking into account previous peer review comments from SACC reviews of risk evaluations on the first 10 chemical assessments and more recent recommendations from the National Academies of Sciences, Engineering, and Medicine (NASEM) review of the Application of Systematic Review in TSCA Risk Evaluations. In addition to the revised generic approach, this peer review package will include appendices containing chemical specific information that is relevant for searching, screening, data evaluation and evidence integration for the next chemical risk evaluations being conducted by OPPT.

2. Exposure to Fenceline Communities

The draft EPA TSCA Screening Level Approach for Assessing Ambient Air and Water Exposures to Fenceline Communities will be developed as a path forward decision to address potential air and water exposures to fenceline communities which may be excluded from other Agency statutes. EPA will use this screening level approach to reassess seven of the first ten TSCA chemical risk evaluations for the air pathway and five of the first ten TSCA chemical risk evaluations for the water pathway to determine if there is a potential for unreasonable risk to these communities. The methodology will be assessed for air exposure on the following chemicals: 1-bromopropane, methylene chloride, N-methylpyrrolidone, carbon tetrachloride, trichloroethylene, perchloroethylene, and 1, 4-dioxane and water exposure for the following chemicals: Methylene chloride, N-methylpyrrolidone, carbon tetrachloride, trichloroethylene, and perchloroethylene. If the agency finds unreasonable risk that cannot be addressed through current risk management approaches, the agency will conduct additional comprehensive exposure assessments and supplement the risk evaluation for that chemical with the updated information.

Authority: 15 U.S.C. 2625 et seq.; 5 U.S.C. appendix 2 et seq.

Dated: October 20, 2021.
Michal Freedhoff,
Assistant Administrator, Office of Chemical Safety and Pollution Prevention.

[FR Doc. 2021-23362 Filed 10-26-21; 8:45 am]

BILLING CODE 6560-50-P